ENVIRONMENTAL PROTECTION AGENCY

40 CFR Part 52

[R03-OAR-2005-PA-0002; FRL-7917-3]

Approval and Promulgation of Air Quality Implementation Plans; Pennsylvania; Withdrawal of Direct Final Rule

AGENCY: Environmental Protection Agency (EPA).

ACTION: Withdrawal of direct final rule.

SUMMARY: Due to an adverse comment, EPA is withdrawing the direct final rule to approve reasonable available control technology (RACT) to limit volatile organic compound (VOC) and nitrogen oxides (NOX) emissions from three individual sources located in Pennsylvania. In the direct final rule published on April 4, 2005 (70 FR 16955), we stated that if we received adverse comment by May 4, 2005, the rule would be withdrawn and not take effect. EPA subsequently received an adverse comment on April 16, 2005. EPA will address the comment received in a subsequent final action based upon the proposed action also published on April 4, 2005 (70 FR 17027). EPA will not institute a second comment period on this action.

DATES: The direct final rule is withdrawn as of May 26, 2005.

FOR FURTHER INFORMATION CONTACT: Amy Caprio, (215) 814-2156, or e-mail at caprio.amy@epa.gov.

List of Subjects in 40 CFR Part 52

Environmental protection, Air pollution control, Nitrogen dioxide, Ozone, Reporting and recordkeeping requirements, Volatile organic compounds.

Dated: May 16, 2005.
Donald S. Welsh,
Regional Administrator, Region III.

Accordingly, the addition of the entries for Waste Management Disposal Services of Pennsylvania Inc. (Pottstown Landfill); Waste Management Disposal Services of PA, Inc.; and, Armstrong World Industries, Inc. in 40 CFR 52.2020(d)(1) published at 70 FR 16957 are withdrawn as of May 26, 2005.

[FR Doc. 05-10515 Filed 5-25-05; 8:45 am]

BILLING CODE 6560-50-P